DEPARTMENT OF HEALTH AND HUMAN SERVICES

Indian Health Service

Indian Health Service Contract Health Service; Purchase-Delivery Order for Health Service

AGENCY: Indian Health Service, HHS.

ACTION: Request for public comment: 30-day proposed information collection: Indian Health Service Contract Health Service Purchase-Delivery Order for Health Service.

SUMMARY: The Indian Health Service, as part of its continuing effort to reduce paperwork and respondent burden, conducts a pre-clearance consultation program to provide the general public and Federal agencies with an opportunity to comment on proposed and/or continuing collections of information in accordance with the Paperwork Reduction Act of 1995 (44 U.S.C. 3506(c)(2)(A)). This program helps to ensure that requested data can be provided in the desired format, reporting burden (time and financial resources) is minimized, collection instruments are clearly understood, and the impact of collection requirements on respondents can be properly assessed. As required by section 3507(a)(1)(D) of the Act, the proposed information collection has been submitted to the Office of Management and Budget (OMB) for review and approval.

The IHS received no comments in response to the 60-day Federal Register notice (67 FR 77800) published on December 19, 2002. The purpose of this notice is to allow an additional 30 days for public comment to be submitted directly to OMB.

Proposed Collection

Title: 0917-0002, re-titled “Indian Health Service Contract Health Service Purchase-Delivery Order for Health Service.” Type of Information Collection Request: Reinstatement, without change, of a previously approved collection for which approval has expired. Form number: IHS-843-1A. Need and Use of Information Collection: Respondents certify that they have performed the health care services authorized by the IHS. Information is used to manage, administer and plan for the provisions of health care services to eligible American Indians, process payments to providers, obtain program data, provide program statistics, and serve as a legal document for health care services rendered. Affected Public: Businesses or other for-profit, Individuals or Households, Not-for-profit institutions, and State, local or Tribal Government. Type of Respondents: Health care providers.

The table below provides the following: types of data collection instructions, estimated number of respondents, number of responses per respondent, annual number of responses, average burden hour per response, and total annual burden hours.

Data collection instrument | Estimated number of respondents | Respones per respondent | Annual number of responses | Average burden hours per response* | Total annual burden hours
IHS-843-1A | 7,087 | 42 | 299,149 | 0.05 (3 mins) | 14,957
Tribal use | 528 | 36 | 19,112 | 0.05 (3 mins) | 956
IDS ** | 20,142 | 1 | 20,142 | 0.05 (3 mins) | 1,007
Total | 27,757 |  |  |  | 16,920
* For ease of understanding, burden hours are also provided in actual minutes.
** Inpatient Discharge Summary (IDS).

There are no Capital Costs, Operating Costs and/or Maintenance Costs to report.

Request for Comments: Your written comments and/or suggestions are invited on one or more of the following points: (a) Whether the information collection activity is necessary to carry out an agency function; (b) whether the agency processes the information collected in a useful and timely fashion; (c) the accuracy of the public burden estimate (the estimated amount of time needed for individual respondents to provide the requested information); (d) whether the methodology and assumptions used to determine the estimate are logical; (e) ways to enhance the quality, utility, and clarity of the information being collected; and (f) ways to minimize the public burden through the use of automated, electronic, mechanical, or other technological collection techniques or other forms of information technology.

Direct Comments to OMB: Send your written comments and suggestions regarding the proposed information collection contained in this notice, especially regarding the estimated public burden and associated response time, directly to: Office of Management and Budget, Office of Regulatory Affairs, New Executive Office Building, Room 10235, Washington, DC 20503, Attention: Allison Eydt, Desk Officer for IHS. Send requests for more information on the proposed collection or to obtain a copy of the data collection instrument(s) and instructions to: Ms. Christine Ingersoll, IHS Reports Clearance Officer, 12300 Twinbrook Parkway, Suite 450, Rockville, MD 20852-1601, call non-toll free (301) 443-5938, send via facsimile to (301) 443-2316, or send your E-mail requests, comments, and return address to: cingerso@hqe.ihs.gov.

FOR FURTHER INFORMATION CONTACT: For information on the proposed data collection instrument and/or the process for handling the form IHS-843-1A, please contact Mr. Clayton Old Elk, 801 Thompson Avenue, Suite 300, Rockville, MD 20852-1627, Telephone 301-443-2694.

Comment Due Date: Your comments regarding this information collection are best assured to having their full effect if received within 30-days of the date of this publication.

Dated: June 30, 2003.
Charles W. Grim,
Assistant Surgeon General, Interim Director.

[FR Doc. 03-17639 Filed 7-10-03; 8:45 am]

BILLING CODE 4160-16-M